DEPARTMENT OF AGRICULTURE

Submission for OMB Review; Comment Request

August 7, 2013.

The Department of Agriculture will submit the following information collection requirement(s) to OMB for review and clearance under the Paperwork Reduction Act of 1995, Public Law 104-13 on or after the date of publication of this notice. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by September 12, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Livestock, Poultry, Grain and Meat Market News

OMB Control Number: 0581-0033

Summary of Collection: The Agricultural Marketing Act of 1946, (60 Stat. 1087-1091, as amended: 7 U.S.C. 1621-1627, (AMA) legislates that USDA shall “collect and disseminate marketing information . . . ” and “ . . . collect, tabulate, and disseminate statistics on marketing agricultural products, including, but not restricted to statistics on marketing supplies, storage, stocks, quantity, quality, and condition of such products in various positions in the marketing channel, use of such products, and shipments and unloads thereof.” The mission of Market New is to provide current unbiased, factual information to all members of the Nation's agricultural industry, from farm to retailer.

This notice announces the merger of 0581-0005 “Grain Market News,” and 0581-0154 “Livestock and Meat Market News” into this revised renewal submission of 0581-0033 creating a single collection and re-titled “Livestock, Poultry, Grain and Meat Market News” (LPGMN).

Need and Use of the Information: Information is used by the private sector to make economic decisions to establish market values for application in contracts or settlement value, and to address specific concerns or issues related to trade agreements and disputes as well as being used by educational institutions, specifically, agricultural colleges and universities. Government agencies such as the Foreign Agricultural Service, Economic Research Service and the National Agricultural Statistics Service use market news data in the performance of their missions. LPGMN reports provide interested segments of the market chain and the general public with unbiased comprehensive livestock, poultry, meat, eggs, wool and grain market data which helps equalize the competitive position of all market participants. The absence of these data would deny primary and secondary users information that otherwise would be available to aid them in their production and marketing decisions, analyses, research and knowledge of current market conditions. The omission of these data could adversely affect prices, supply, and demand.

Description of Respondents: Business or other for-profit; Farms

Number of Respondents: 2,668

Frequency of Responses: Reporting: Weekly; Monthly

Total Burden Hours: 14,747

Agricultural Marketing Service

Title: Livestock Mandatory Reporting Act of 1999

OMB Control Number: 0581-0186

Summary of Collection: The Livestock Mandatory Reporting Act of 1999 (Pub. L. 106-78; 7 U.S.C. 1635-1636h) mandates the reporting of information on prices and quantities of livestock and livestock products. Under this program, certain livestock packers, livestock product processors and importers meeting certain criteria, including size as measured by annual slaughter are required to report market information to the Agricultural Marketing Service (AMS). The information is necessary for the proper performance of the functions of AMS. USDA's market news provides all market participants, including producers, with the information necessary to make intelligent and informed marketing decisions.

AMS is merging associated burden and form LS-89 approved under information collection 0581-0279, “Livestock Mandatory Reporting Program, Establishment of the Reporting Regulations for Wholesale Pork” into the 0581-0186 revised renewal submission.

Need and Use of the Information: The information collected and recordkeeping requirements will serve as the basis for livestock and livestock product market news reports utilized by the industry for marketing purposes. The reports are used by other Government agencies to evaluate market conditions and calculate price levels. Economists at major agricultural colleges and universities use the reports to make short and long-term market projections. The information is reported up to three times daily and once weekly and is only available directly from those entities required to report under the Act.

Description of Respondents: Business or other for-profit;

Number of Respondents: 422

Frequency of Responses: Reporting; Weekly; Other (Daily)

Total Burden Hours: 23,766

Agricultural Marketing Service

Title: Federal-State Marketing Improvement Program (FSMIP)

OMB Control Number: 0581-0240

Summary of Collection: The Federal-State Marketing Improvement Program (FSMIP) operates pursuant to the authority of the Agricultural Act of 1946 (7 U.S.C. 1621, et.seq.). Section 204(b) authorizes the Secretary of Agriculture to make available funds to State Departments of Agriculture, State bureaus and departments of markets, State agricultural experiment stations, and other appropriate State agencies for cooperative projects in marketing service and in marketing research to effectuate the purposes of title II of the Agricultural Act of 1946. FSMIP provides matching grants on a competitive basis to enable States to explore new market opportunities for U.S. food and agricultural products and to encourage research and innovation aimed at improving the efficiency and performance of the U.S. marketing system.

Need and Use of the Information: The information collection requirements in this request are needed to implement the Federal-State Marketing Improvement Program (FSMIP). The information will be used by the Agricultural Marketing Service (AMS) to establish the entity's eligibility for participation, the suitability of the budget for the proposed project, and compliance with applicable Federal regulations.

Description of Respondents: State, Local or Tribal Government

Number of Respondents: 80

Frequency of Responses: Reporting: Annually; Semi-annually

Total Burden Hours: 5,363

Charlene Parker,
Departmental Information Collection Clearance Officer.

[FR Doc. 2013-19504 Filed 8-12-13; 8:45 am]

BILLING CODE 3410-02-P